DEPARTMENT OF THE INTERIOR

National Park Service

National Register of Historic Places; Notification of Pending Nominations and Related Actions

Nominations for the following properties being considered for listing or related actions in the National Register were received by the National Park Service before July 16, 2005.

Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by August 22, 2005.

John W. Roberts,
Acting Chief, National Register/National Historic Landmarks Program.

ALASKA

Ketchikan Gateway Borough-Census Area

Clover Pass School, Potter Rd. off Knudson Cove Rd., Knudson Cove, 05000898

Ketchikan Federal Building, 648 Mission St., Ketchikan, 05000897

GEORGIA

Carroll County

Folds, Eric Vernon, House, 1575 GA 16, Carrollton, 05000902

DeKalb County

Stone Mountain Quarries Historic District, Stone Mountain Memorial State Park, Stone Mountain, 05000900

IOWA

Cherokee County

Cherokee Commercial Historic District, Parts of Main, Maple and Willow, bet. 1st and 6th Sts., Cherokee, 05000903

Fayette County

St. Luke's School and Recreation Center, 212 East Main, St. Lucas, 05000899

Jones County

St. Joseph's Roman Catholic Church, 12472 Jones Cty Rd. X28, Stone City, 05000904

Lucas County

Chariton Free Public Library, 803 Braden, Chariton, 05000906

Scott County

Buffalo High School, 326 E 4th St., Buffalo, 05000901

Wapello County

Ottumwa Young Women's Christian Association, (Ottumwa MPS), 133 W. Second St., Ottumwa, 05000907

Washington County

Brookhart, Smith Wildman and Jennie (Hearne), House, 1203 East Washington, Washington, 05000905

MARYLAND

Washington County

Kefauver Place, 20515 Park Hall Rd., Rohrersville, 05000908

MICHIGAN

Wayne County

Schmidt, Carl E and Alice Candler, House, 301 Lake Shore Rd., Grosse Pointe Farms, 05000909

MISSISSIPPI

Madison County

Mississippi Institute of Aeronautics Aircraft Hangars, Bruce Campbell Field, 7496 Old Canton Rd., Madison, 05000910

MISSOURI

Pike County

North Third Street Historic District, (Louisiana, Missouri MPS) Roughly bounded by Georgia, Noyes, North Third and North Water Sts., Louisiana, 05000912

NEW JERSEY

Cape May County

Caribbean Motel, (Motels of The Wildwoods MPS) 5600 Ocean Ave., Borough of Wildwood Crest, 05000915

Warren County

Allen, Jacob C., House, 206 W. Moore St., Hackettstown, 05000911

NORTH DAKOTA

Ransom County

Mizpah Lodge Building, 260 Front St., Sheldon, 05000913

RHODE ISLAND

Providence County

Nicholson File Company Mill Complex, 1-45 Acorn St., Providence, 05000918

Providence Steel and Iron Company Complex, 27 Sims Ave., Providence, 05000919

United States Rubber Company Mill Complex, Bounded by Hemlock and Valley Sts, Richmond Place, and the Woonasquatucket R, Providence, 05000917

VIRGINIA

Northampton County

Upper Ridge Site, Address Restricted, Mockhorn Island, 05000914

Richmond Independent City

Shockeoe Slip Historic District (Boundary Increase II), 11-15 and 101 South 15th St., 1433 East Main St., Richmond (Independent City), 05000916

WASHINGTON

King County

Keewaydin Clubhouse, 1836 72nd Ave. SE, Mercer Island, 05000923

Lewis County

Hubbard Bungalow, (Centralia Armistice Day, 1919 MPS) 717 N. Washington Ave., Centralia, 05000922

Spokane County

Bell, Dr. Robert and Jessie, House, 917 S. Lincoln St., Spokane, 05000921

Hillyard High School, 5313 N. Regal St., Spokane, 05000920

Spokane Sash and Door Company Flats, 1302-1312 W Broadway Ave., Spokane, 05000924

WYOMING

Natrona County

Masonic Temple, 105 N. Center St., Casper, 05000926

Platte County

Sunrise Mine Historic District, WY 318, Hartville, 05000925

A request for REMOVAL has been made for the following resources.

IOWA

Calhoun County

Knapp, Dr. Charles, Round Barn (Iowa Round Barns: The Sixty Year Experiment TR) Off CR D26 Jolley vicinity, 86003187

Kossuth County

Longbottom Polygonal Barn (Iowa Round Barns: The Sixty Year Experiment TR), Off IA 226 Titonka vicinity, 86001456

Scott County

Mueller Lumber Company (Davenport MRA) 501 W. 2nd St. Davenport, 83002474

MISSOURI

Franklin County

Glaser, John, Pottery Factory (Washington, Missouri MPS) 812 W. Front St. Washington, 00001098

[FR Doc. 05-15467 Filed 8-4-05; 8:45 am]

BILLING CODE 4312-51-P